DEPARTMENT OF JUSTICE

Office of Justice Programs

[OJP (OJJDP) Docket No. 1458]

Meeting of the Federal Advisory Committee on Juvenile Justice

AGENCY: Office of Juvenile Justice and Delinquency Prevention, Office of Justice Programs, Justice.

ACTION: Notice of meeting.

SUMMARY: The Office of Juvenile Justice and Delinquency Prevention is announcing the spring meeting of the Federal Advisory Committee on Juvenile Justice (FACJJ), which will be held in Columbia, SC on October 23-24, 2006. The meeting times and location are noted below.

DATES: The schedule of events is as follows:

1. Monday, October 23, 2006.

8:30 a.m.-12:30 p.m. Welcome, Call to Order and Introductory Remarks. Review, Discussion and Deliberation of the 2006 Final Draft Reports to the President, Congress, and the Administrator of OJJDP (Open Sessions).

12:30 p.m.-1:45 p.m. Regional and Topical Discussions (Closed Sessions).

1:45 p.m.-2:20 p.m. Subcommittee Meetings and Report Outs (Open Sessions).

2:20 p.m.-4 p.m. Review of State Summaries and Discussion of 2007 Preliminary Report Topics and Small Group Discussions (Open Sessions).

4 p.m.-5 p.m. State Announcements, Other Business and Summary Remarks (Open Session).

2. Tuesday, October 24, 2006.

8 a.m-12 p.m. Presentations: Topics to Be Determined (Open Session).

12 p.m.-12:30 p.m. Summary and Closing Remarks (Open Session).

ADDRESSES: The meeting will be held at the National Advocacy Center, 1620 Pendleton Street, Columbia, SC 29201.

FOR FURTHER INFORMATION CONTACT: Robin Delany-Shabazz, Designated Federal Official, OJJDP, Robin.Delany-Shabazz@usdoj.gov, or 202-307-9963.

SUPPLEMENTARY INFORMATION: The Federal Advisory Committee on Juvenile Justice (FACJJ), established pursuant to Section 3(2)A of the Federal Advisory Committee Act (5 U.S.C. App.2) will meet to carry out its advisory functions under Section 223(f)(2)(C-E) of the Juvenile Justice and Delinquency Prevention Act of 2002. The FACJJ is composed of one representative from each state and territory. FACJJ duties include: reviewing Federal policies regarding juvenile justice and delinquency prevention; advising the OJJDP Administrator with respect to particular functions and aspects of OJJDP; and advising the President and Congress with regard to State perspectives on the operation of OJJDP and Federal legislation pertaining to juvenile justice and delinquency prevention. More information, including a member list, may be found at http://www.facjj.org.

For security purposes, members of the public who wish to attend open sessions should register by sending a fax with their name, affiliation, address, phone number, and a list of sessions they plan to attend to 703-738-9149, attention: Daryel Dunston. [Note: this is not a toll-free number.] Because space is limited, notification of intent to attend should be sent by October 17, 2006.

Note: Photo identification will be required for admission. Additional identification documents may be required.

Written Comments: Interested parties may submit written comments by Tuesday, October 17, 2006, to Robin Delany-Shabazz, Designated Federal Official for the Federal Advisory Committee on Juvenile Justice, OJJDP, at Robin.Delany-Shabazz@usdoj.gov, or by fax to 202-354-4063. [Note: this is not a toll-free number.] No oral presentations will be permitted though written questions or comments from the public may be invited.

Dated: September 29, 2006.
Marilyn Roberts,
Deputy Administrator, Office of Juvenile Justice and Delinquency Prevention.

[FR Doc. E6-16457 Filed 10-4-06; 8:45 am]

BILLING CODE 4410-18-P